DEPARTMENT OF THE INTERIOR

National Park Service

[NPS-WASO-NAGPRA-NPS0028650; PPWOCRADN0-PCU00RP14.R50000]

Notice of Intent To Repatriate Cultural Items: The Field Museum, Chicago, IL

AGENCY: National Park Service, Interior.

ACTION: Notice.

SUMMARY: The Field Museum in consultation with the appropriate Indian Tribes or Native Hawaiian organizations, has determined that the cultural items listed in this notice meet the definition of sacred objects. Lineal descendants or representatives of any Indian Tribe or Native Hawaiian organization not identified in this notice that wish to claim these cultural items should submit a written request to the Field Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Field Museum at the address in this notice by October 3, 2019.

ADDRESSES: Helen Robbins, The Field Museum of Natural History, 1400 Lakeshore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of the Field Museum, Chicago, IL, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, three cultural items identified as Salish in the Field Museum's records were removed from an unknown location and sold to H. Stadhagen, a purveyor of indigenous material culture. In December of 1902, Charles Newcombe purchased the three items from H. Stadhagen's Indian Curio store in Victoria, B.C. for the Field Museum of Natural History. The items were accessioned into the Museum on October 6, 1905. These three items are masks.

Based on consultation with the Samish Indian Nation, the Field Museum has determined that these masks are an integral part of rituals and ceremonies performed by Coast Salish traditional religious leaders. The items were identified as belonging to the Coast Salish by the original collectors, academic experts in the study of Coast Salish culture, and traditional Coast Salish religious leaders.

Determinations Made by the Field Museum of Natural History

Officials of the Field Museum of Natural History have determined that:

• Pursuant to 25 U.S.C. 3001(3)(C), the three cultural items described above are specific ceremonial objects needed by traditional Native American religious leaders for the practice of traditional Native American religions by their present-day adherents.

• Pursuant to 25 U.S.C. 3001(2), there is a relationship of shared group identity that can be reasonably traced between the sacred objects and the Samish Indian Nation (previously listed as the Samish Indian Tribe, Washington).

Additional Requestors and Disposition

Lineal descendants or representatives of any Indian Tribe or Native Hawaiian organization not identified in this notice that wish to claim these cultural items should submit a written request with information in support of the claim to Helen Robbins, The Field Museum, 1400 Lakeshore Drive, Chicago, IL 60605, telephone (312) 665-7317, email hrobbins@fieldmuseum.org, by October 3, 2019. After that date, if no additional claimants have come forward, transfer of control of the sacred objects to the Samish Indian Nation (previously listed as the Samish Indian Tribe, Washington) may proceed.

The Field Museum of Natural History is responsible for notifying the Samish Indian Nation (previously listed as the Samish Indian Tribe, Washington) that this notice has been published.

Dated: August 6, 2019.
Melanie O'Brien,
Manager, National NAGPRA Program.

[FR Doc. 2019-18866 Filed 8-30-19; 8:45 am]

BILLING CODE 4312-52-P